DEPARTMENT OF DEFENSE

Office of the Secretary

[Transmittal No. 21-19]

Arms Sales Notification

AGENCY: Defense Security Cooperation Agency, Department of Defense (DoD).

ACTION: Arms sales notice.

SUMMARY: The DoD is publishing the unclassified text of an arms sales notification.

FOR FURTHER INFORMATION CONTACT: Pamela Young at (703) 953-6092, pamela.a.young14.civ@mail.mil, or dsca.ncr.rsrcmgmt.list.cns-mbx@mail.mil.

SUPPLEMENTARY INFORMATION: This 36(b)(1) arms sales notification is published to fulfill the requirements of section 155 of Public Law 104-164 dated July 21, 1996. The following is a copy of a letter to the Speaker of the House of Representatives with attached Transmittal 21-19 and Policy Justification.

Dated: December 17, 2024.
Stephanie J. Bost,
Alternate OSD Federal Register Liaison Officer, Department of Defense.

BILLING CODE 6001-FR-P

BILLING CODE 6001-FR-C

Transmittal No. 21-19

Notice of Proposed Issuance of Letter of Offer Pursuant to Section 36(b)(1) of the Arms Export Control Act, as amended

(i) Prospective Purchaser: Kingdom of Saudi Arabia

(ii) Total Estimated Value:

Major Defense Equipment * | $0 billion,
Other | $1 billion,
Total | $1 billion.

Funding Source: National Funds

(iii) Description and Quantity or Quantities of Articles or Services under Consideration for Purchase:

Major Defense Equipment (MDE):

None

Non-MDE:

Continuation of a blanket order training program inside and outside of the Kingdom of Saudi Arabia that includes, but is not limited to, flight training; technical training; professional military education; specialized training; Mobile Training Teams (MTTs); Technical Assistance Field Team (TAFT); Extended Training Service Specialists (ETSS); and English language training. These blanket order training cases will cover all relevant types of training offered by or contracted through the United States (U.S.) Air Force or Department of Defense (DoD) Agencies. This training for the Royal Saudi Air Force (RSAF) and other Saudi forces will include such subjects as civilian casualty avoidance; the laws of armed conflicts; human rights; command and control; and targeting via MTTs and/or broader Programs of Instruction (POIs). Program management; trainers, simulators; travel; billeting; and medical support may also be included.

(iv) Military Department: Air Force (SR-D-THP)

(v) Prior Related Cases, if any: SR-D-THI, SR-D-THJ, SR-D-THK, SR-D-THL, SR-D-THM, SR-D-THN, SR-D-THO

(vi) Sales Commission, Fee, etc., Paid, Offered, or Agreed to be Paid: None

(vii) Sensitivity of Technology Contained in the Defense Article or Defense Services Proposed to be Sold: None

(viii) Date Report Delivered to Congress: December 22, 2023

* As defined in Section 47(6) of the Arms Export Control Act.

POLICY JUSTIFICATION

Saudi Arabia—Blanket Order Training

The Kingdom of Saudi Arabia has requested a continuation of a blanket order training program inside and outside of the Kingdom of Saudi Arabia that includes, but is not limited to, flight training; technical training; professional military education; specialized training; Mobile Training Teams (MTTs); Technical Assistance Field Team (TAFT); Extended Training Service Specialists (ETSS); and English language training. These blanket order training cases will cover all relevant types of training offered by or contracted through the U.S. Air Force or DoD. This training for the Royal Saudi Air Force (RSAF) and other Saudi forces will include such subjects as civilian casualty avoidance; the laws of armed conflicts; human rights; command and control; and targeting via MTTs and/or broader Programs of Instruction (POIs). Program management; trainers, simulators; travel; billeting; and medical support may also be included. The estimated total cost is $1 billion.

This proposed sale will support the foreign policy goals and national security objectives of the U.S. by improving the security of a friendly country that is a force for political stability and economic progress in the Middle East.

The proposed sale will improve Saudi Arabia's capability to meet current and future threats and increase its interoperability with the U.S. through comprehensive U.S. Air Force training. The training will assist Saudi Arabia by fostering a climate of security in the region through the improved proficiency of the RSAF. Saudi Arabia will have no difficulty absorbing this training into its armed forces.

The proposed sale of this equipment and support will not alter the basic military balance in the region.

There is no principal contractor for the proposed sale. Training will be provided by U.S. Government or contract vendors based upon requirements as they are determined. There are no known offset agreements proposed in connection with this potential sale.

Implementation of this proposed sale will require the temporary or continuation of assignment of approximately three hundred thirty-nine (339) U.S. Government or contractor training personnel to Saudi Arabia for at least one year with a possibility of extension.

There will be no adverse impact on U.S. defense readiness as a result of this proposed sale.

[FR Doc. 2024-30631 Filed 12-23-24; 8:45 am]

BILLING CODE 6001-FR-P